DEPARTMENT OF ENERGY

Federal Energy Regulatory Commission

[Docket No. EG00-241-000, et al.]

Tecnoguat, S.A., et al.; Electric Rate and Corporate Regulation Filings

August 15, 2000.

Take notice that the following filings have been made with the Commission:

1. Tecnoguat, S.A.

[Docket No. EG00-241-000]

Take notice that on August 10, 2000, Tecnoguat, S.A., a corporation (sociedad anónima) organized under the laws of Guatemala (Applicant), with its principal place of business at Diagonal 6 10-65 Zona 10, Centro Gerencial Las Margaritas, Torre I, Nivel 8, Oficina 8, 01010 Guatemala, Guatemala, filed with the Federal Energy Regulatory Commission an application for determination of exempt wholesale generator status pursuant to Part 365 of the Commission's regulations.

Applicant owns and operates an approximately 14 megawatt hydroelectric power production facility located in central Guatemala.

Comment date: September 5, 2000, in accordance with Standard Paragraph E at the end of this notice. The Commission will limit its consideration of comments to those that concern the adequacy or accuracy of the application.

2. Cleco Evangeline LLC

[Docket No. ER00-3058-001]

Take notice that on August 10, 2000, Cleco Evangeline LLC (Cleco Evangeline), amended its filing of a sale and tolling agreement under which Cleco Evangeline will make market-based power sales to Williams Energy Marketing & Trading Company. Cleco Evangeline originally filed the sale and tolling agreement July 3, 2000, with a request for confidential treatment of the agreement pursuant to 18 CFR 388.112. The amended filing does not contain a request for confidential treatment. Cleco Evangeline is an affiliate of Cleco Utility Group Inc., a public utility subject to the Commission's jurisdiction under the Federal Power Act, 16 U.S.C. 79l(a) et. seq.

A copy of the filing has been served upon Williams Energy Marking & Trading Company.

Comment date: August 31, 2000, in accordance with Standard Paragraph E at the end of this notice.

3. Delmarva Power & Light Company, and Conectiv Delmarva Generation, Inc.

[Docket No. ER00-3168-001]

Take notice that on August 10, 2000, Conectiv withdrew its Notice of Succession in Ownership in Docket No. ER00-3168-000 and submitted Notices of Full and Partial Succession in Ownership and certificates of concurrence in certain agreements affected by the transfer to CDG of Delmarva's interests in the Keystone and Conemaugh generating facilities. Those agreements include the Keystone Operating agreement, Keystone Interconnection Agreement, Conemaugh Operating Agreement, Conemaugh Interconnection Agreement and the 115 kV Seward-Conemaugh Interconnection Facilities Agreement.

Conectiv requests that these notices become effective on July, 1, 2000, the date of the transfer of the Keystone and Conemaugh generating facilities from Delmarva to CDG.

Conectiv has served the affected state commissions, Delmarva's wholesale requirements customers, parties to the Keystone and Conemaugh interconnection and operating agreements with this filing.

Comment date: August 31, 2000, in accordance with Standard Paragraph E at the end of this notice.

4. Virginia Electric and Power Company

[Docket No. ER00-3387-000]

Take notice that on August 10, 2000, Virginia Electric and Power Company (Virginia Power), tendered for filing the Service Agreement between Virginia Electric and Power Company and Pepco Energy Services, Inc. Under the Service Agreement, Virginia Power will provide services to Pepco Energy Services, Inc., under the terms of the Company's Revised Market-Based Rate Tariff designated as FERC Electric Tariff (Second Revised Volume No. 4), which was accepted by order of the Commission dated August 13, 1998 in Docket No. ER98-3771-000.

Virginia Power requests an effective date of July 27, 2000, the date service was first requested by the customer.

Copies of the filing were served upon Pepco Energy Services, Inc., the Virginia State Corporation Commission and the North Carolina Utilities Commission.

Comment date: August 31, 2000, in accordance with Standard Paragraph E at the end of this notice.

5. Allegheny Energy Service Corporation on behalf of Allegheny Energy Supply Company, LLC

[Docket No. ER00-3388-000]

Take notice that on August 10, 2000, Allegheny Energy Service Corporation on behalf of Allegheny Energy Supply Company, LLC (Allegheny Energy Supply), tendered for filing Service Agreement No. 83 to add one (1) new Customer to the Market Rate Tariff under which Allegheny Energy Supply offers generation services. Allegheny Energy Supply requests a waiver of notice requirements to make service available as of April 12, 2000 to Amerada Hess Corporation.

Copies of the filing have been provided to the Public Utilities Commission of Ohio, the Pennsylvania Public Utility Commission, the Maryland Public Service Commission, the Virginia State Corporation Commission, the West Virginia Public Service Commission, and all parties of record.

Comment date: August 31, 2000, in accordance with Standard Paragraph E at the end of this notice.

6. California Independent System Operator Corporation

[Docket No. ER00-3389-000]

Take notice that on August 10, 2000, the California Independent System Operator Corporation (ISO), tendered for filing a revised Schedule 1 to the Participating Generator Agreement (PGA) between the ISO and San Joaquin Cogen Limited. (Rate Schedule No. 283).

The ISO states that copies of this filing have been served upon all parties in the above-referenced docket.

Comment date: August 31, 2000, in accordance with Standard Paragraph E at the end of this notice.

7. PJM Interconnection, L.L.C.

[Docket No. ER00-3390-000]

Take notice that on August 10, 2000, PJM Interconnection, L.L.C. (PJM), tendered for filing an executed umbrella service agreement for network integration transmission service under the PJM Open Access Transmission Tariff with Essential.com, Inc. (Essential.com).

Copies of this filing were served upon Essential.com and the state commissions within the PJM control area.

Comment date: August 31, 2000, in accordance with Standard Paragraph E at the end of this notice.

8. PJM Interconnection, L.L.C.

[Docket No. ER00-3391-000]

Take notice that on August 10, 2000, PJM Interconnection, L.L.C. (PJM), tendered for filing a signature page for Allegheny Electric Cooperative, Inc. (Allegheny) adding Allegheny as a Party to the Transmission Owners Agreement, dated June 2, 1997, and a revised Attachment L to the PJM Tariff adding Allegheny to the list of Regional Transmission Owners.

PJM has served a copy of this filing upon all members of PJM and each of the state regulatory commissions within the PJM control area.

Comment date: August 31, 2000, in accordance with Standard Paragraph E at the end of this notice.

9. New England Power Pool

[Docket No. ER00-3392-000]

Take notice that on August 10, 2000, the New England Power Pool (NEPOOL), Participants Committee filed for acceptance materials to terminate the membership of Washington Electric Cooperative, Inc. (WEC). At the request of WEC, the Participants Committee seeks a July 1, 2000 effective date for that termination.

The Participants Committee states that copies of these materials were sent to the New England state governors and regulatory commissions and the Participants in NEPOOL.

Comment date: August 31, 2000, in accordance with Standard Paragraph E at the end of this notice.

10. CMS Generation Michigan Power, L.L.C.

[Docket No. ER00-3393-000]

Take notice that on August 10, 2000, CMS Generation Michigan Power, L.L.C. (Michigan Power), tendered for filing an executed long-term service agreement for wholesale power sales with CMS Marketing, Services and Trading Company pursuant to Michigan Power's Market-Based Rate Tariff, accepted for filing in Docket No. ER99-3677-000.

Copies of the filing have been served on the Michigan Public Service Commission and CMS Marketing, Services and Trading Company.

Comment date: August 31, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-21148 Filed 8-18-00; 8:45 am]

BILLING CODE 6717-01-P